DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before August 20, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 10, 2018.
Donald P. Burger,
Chief, General Approvals and Permits Branch.

Application No. | Applicant | Regulation(s) affected | Nature of the special permits thereof
SPECIAL PERMITS DATA—Granted
9198-M | Interior Business Center | 173.7(f) | To modify the special permit to authorize the incorporation of the “National Wildfire Coordination Group Standards” Handbook.
13208-M | BTG INTERNATIONAL LIMITED | 172.400, 172.500, 172.200, 173.302a(a)(1) | To modify the special permit to authorize an additional hazmat to bring the permit in line with international regulations.
14301-M | GASCON (PTY) LTD | 178.274(b), 178.276(b) | To modify the special permit to authorize portable tanks to be designed, constructed, certified and stamped in accordance with Section VIII Division 2 of the ASME Code.
14951-M | HEXAGON LINCOLN, INC | 173.301(f), 173.302(a) | To modify the special permit to authorize an increase in tank volume from 8,500 liters to 12,000 liters and to authorize a shorter length for the sample test tube.
16231-M | THALES ALENIA SPACE | 173.185(a) | To modify the special permit to authorize batteries of up to 12 cells rather than only batteries with 12 cells.
20418-M | CIMARRON COMPOSITES, LLC | 173.302(a) | To modify the special permit to authorize an increase in bar pressure from 250 to 300, an increase in volume to 3,000 liters and authorize additional hazmat. (modes 1,2,3)
20511-M | ARMOTECH s.r.o | 107.807(b)(1), 173.301(a)(1), 173.302(a)(1), 173.302(f)(1), 173.302(f)(2), 178.71(q), 178.71(t) | To modify the special permit to authorize a new part number/design type and to clarify some of the language in the special permit.
20541-M | ISGEC HEAVY ENGINEERING LTD | 179.300-19(a) | To modify the special permit to authorize changes to the shell and overall length of the tank cars.
20549-M | CORNERSTONE ARCHITECTURAL PRODUCTS LLC | 172.400, 172.700(a), 172.102(c)(1), 172.200, 172.300 | To modify the special permit to authorize a specially designed packaging filled with a material formulated to suppress lithium battery fires and absorb the smoke, gases and flammable electrolyte associate with those fires.
20567-N | OMNI TANKER PTY. LTD | 107.503(b), 107.503(c), 172.102(c)(3), 172.203(a), 173.241, 173.242, 173.243, 178.345-1, 178.347-1, 178.348-1, 180.405, 180.413(d) | To authorize the manufacture, mark, sale, and use of non-DOT specification cargo tanks and cargo tank motor vehicles.
20588-N | Nantong Tank Container Co., Ltd | 178.274(b) | To authorize the manufacture, marking, sale and use of UN portable tanks conforming to portable tank code T50 that have been designed, constructed and stamped in accordance with Section VIII, Division 2 of the ASME Code (plus applicable Code Cases) as the primary pressure vessel code based upon a design reference temperature of 46.1 °C.
20602-N | THE BOEING COMPANY | 173.1, 173.56 | To authorize the transportation in commerce of spacecraft containing certain hazardous materials in non-DOT specification packagings.
20604-N | ELSTER AMERICAN METER COMPANY, LLC | 173.185(c)(3)(i) | To authorize the transportation in commerce of lithium batteries contained in equipment without certain markings on each package.
20608-N | DEPARTMENT OF DEFENSE (MILITARY SURFACE DEPLOYMENT & DISTRIBUTION COMMAND) | 173.302a(a)(1) | To authorize the transportation in commerce of compressed air in non-DOT specification cylinders.
20619-N | GLOBALTECH ENVIRONMENTAL CORP |  | To authorize the manufacture, mark, sale, and use of packagings, intended to contain batteries of mixed chemistries, as not subject to certain hazard communication requirements.
20622-N | APPLE INC | 172.101(j), 173.185(a) | To authorize the transportation in commerce of low production lithium ion batteries exceeding 35 kg net weight by cargo-only aircraft.
20624-N | JAGUAR LAND ROVER NORTH AMERICA, LLC | 172.101(j) | To authorize the transportation in commerce of lithium ion batteries in excess of 35 kg by cargo-only aircraft.
20629-N | SPACEFLIGHT, INC | 173.185(e)(3)(i), 173.185(e)(3)(ii) | To authorize the transportation in commerce of lithium batteries in alternative packaging.
20644-N | CRI CATALYST COMPANY LP | 172.102(c)(2) | To authorize the transportation in commerce of 50G large packagings containing solid environmentally hazardous substances via air.
20648-N | ARMOTECH s.r.o | 107.807(a), 107.807(b), 107.807(c), 178.69(a)(1), 178.69(b) | To authorize the transportation in commerce of foreign manufactured special permit cylinders manufactured under IIA oversight.
20662-M | DEPARTMENT OF DEFENSE (MILITARY SURFACE DEPLOYMENT & DISTRIBUTION COMMAND) | 173.219(b) | To modify the special permit to authorize use of packgings authorized in Packing Instruction 134 of 49 CFR 173.62.
20662-N | DEPARTMENT OF DEFENSE (MILITARY SURFACE DEPLOYMENT & DISTRIBUTION COMMAND) | 173.219(b) | To authorize the transportation in commerce of non-self-inflating life-saving appliances (parachutes), which contain Division 1.4C and 1.4S explosives.
20666-N | KOREAN AIR LINES CO., LTD | 172.101(j)(1), 172.204(c)(3), 173.27(b)(2), 173.27(b)(3), 175.30(a)(1) | To authorize the transportation in commerce of certain explosives which are forbidden for transport by cargo only aircraft.
20672-N | ATLAS AIR, INC | 172.101(j), 172.204(c)(3), 173.27(b)(2), 173.27(b)(3), 175.30(a)(1) | To authorize the transportation in commerce of explosives by cargo aircraft which is forbidden in the regulations.
20678-N | Parsons Corporation | 172.101(j) | To authorize the transportation in commerce of lithium ion batteries that exceed the 35 kg weight restriction by cargo aircraft.
SPECIAL PERMITS DATA—Denied
20551-N | MONDY GLOBAL, INC | 173.304(a) | To authorize the transportation in commerce of non-DOT specification cylinders containing refrigerant gases for the purpose of transferring the materials to compliant packagings outside of the port area.
SPECIAL PERMITS DATA—Withdrawn
16415-M | VOLKSWAGEN GROUP OF AMERICA, INC | 173.302a | To modify the special permit to authorize an additional 2.2 hazmat.
20577-N | PETROLEUM HELICOPTER, INC | 175.700(a) | To authorize the transportation in commerce of Class 7 materials aboard passenger-carrying aircraft.
20660-N | AVIAKOMPANIYa UKRAINA-AEROALYANS, PrAT | 172.101(j), 172.101(j)(1), 172.204(c)(3), 173.27(b)(2), 175.30(a)(1) | To authorize the transportation in commerce of explosives by cargo only aircraft in amounts forbidden by the regulations.
20676-N | PRAXAIR DISTRIBUTION, INC | 173.24(c), 180.205(d) | To authorize the one-time, one-way shipment of cylinders involved in a fire for test and inspection.
20679-N | SPEAR POWER SYSTEMS, LLC | 172.101(j), 173.185(g) | To authorize the transportation in commerce of lithium ion batteries that exceed the 35 kg weight limit.

[FR Doc. 2018-15478 Filed 7-19-18; 8:45 am]

BILLING CODE 4909-60-P